DEPARTMENT OF LABOR

Occupational Safety and Health Administration

[Docket No. ICR-1218-0241 (2001)]

Extension of the Office of Management and Budget's (OMB) Approval of Information-Collection (Paperwork) Requirements

AGENCY: Occupational Safety and Health Administration (OSHA), Labor.

ACTION: Request for public comment.

SUMMARY: OSHA solicits comments concerning its request to decrease the total burden-hour estimate for, and to extend OMB approval of, the collection-of-information requirements specified by regulations on “Steel Erection.” These regulations contain information-collection requirements that: Notify designated parties, especially steel erectors, that building materials, components, steel structures, and fall-protection equipment are safe for specific uses; and ensure that employees exposed to fall hazards receive specified training in the recognition and control of fall hazards. Based on its assessment of the paperwork requirements contained in the regulations, the Agency estimates that the total burden hours decreased compared to its previous burden-hour estimate. Under this Notice, OSHA is not proposing to revise these paperwork requirements in any substantive manner, only to decrease the burden hours imposed by the existing paperwork requirements.

DATES: Submit written comments on or before October 29, 2001.

ADDRESSES: Submit written comments to the Docket Office, Docket No. ICR-1218-0241 (2001), OSHA, U.S. Department of Labor, Room N-2625, 200 Constitution Avenue, NW., Washington, DC 20210; telephone (202) 693-2350. Commenters may transmit written comments of 10 pages or less by facsimile to (202) 693-1648.

FOR FURTHER INFORMATION CONTACT: Kathleen M. Martinez, Directorate of Policy, Office of Regulatory Analysis, OSHA, U.S. Department of Labor, Room N-3609, 200 Constitution Avenue, N.W., Washington, DC 20210; telephone (202) 693-1953. A copy of the Agency's Information-Collection Request (ICR) supporting the need for the information collections specified by 29 CFR part 1926, subpart R is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The following provisions of 29 CFR part 1926, subpart R (the “Subpart”) contain paperwork requirements: §§ 1926.752(a)(1) and (a)(2); 1926.753(c)(5) and (e)(2); 1926.757(a)(4), (a)(7), (a)(9), and (e)(4)(i); 1926.758(g); 1926.760(e) and (e)(1); 1926.761; and paragraph (c)(4)(ii) of Appendix G. These provisions ensure that: Designated parties, especially steel erectors, receive notice that building materials, components, steel structures, and fall-protection equipment are safe for specific uses; and employees exposed to fall hazards receive the required training in the recognition and control of fall hazards. These paperwork requirements provide a direct and efficient means for controlling contractors and steel erectors to inform others (e.g., employees) of steel-erection hazards and their control, thereby preventing death and serious injury by ensuring that structural steel members remain stable and that employees use fall protection correctly.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection -transmission techniques.

III. Proposed Actions

OSHA is requesting a decrease in the existing burden-hour estimate for, as well as an extension of OMB approval of, the paperwork requirements specified by the Subpart. In this regard, the Agency is requesting to reduce the current burden-hour estimate from 79,228 hours to 30,786 hours, a total decrease of 48,442 hours. This decrease occurred largely because OSHA removed the burden hours for employers to develop a certification record of the pre-shift inspection of hoisting equipment; this requirement is not in the final subpart. The Agency will summarize the comments submitted in response to this notice, and will include this summary in its request to OMB to extend its approval of these information-collection requirements.

Type of Review: Extension of currently approved information-collection requirement.

Title: 29 CFR part 1926, subpart R (“Steel Erection”).

OMB Number: 1218-0241.

Affected Public: Business or other for-profit; not-for-profit institutions; Federal government; State, local, or tribal governments.

Number of Respondents: 20,781 ¹.

¹ OSHA assumes one controlling contractor and one steel erector per project.

Frequency of Response: Varies from one occurrence per project for most of the paperwork requirements, to 10 occurrences per project for an employer to have a qualified rigger determine that it is safer to hoist and place purlins and single joists using deactivated safety latches on hooks than allowing the latches to remain activated.

Average Time per Response: Varies from one minute for a controlling contractor to inform a steel erector to leave fall protection at the jobsite, to three hours for controlling contractors to obtain approval from the project structural engineer of record before modifying anchor bolts.

Estimated Total Burden Hours: 30,786.

Estimated Cost (Operation and Maintenance): $0.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC on August 27, 2001.
John L. Henshaw,
Assistant Secretary of Labor.

[FR Doc. 01-21958 Filed 8-29-01; 8:45 am]

BILLING CODE 4510-26-M